DEPARTMENT OF LABOR

Employment and Training Administration

[TA-W-65,794]

Leggett and Platt, Inc., Whittier, CA; Notice of Termination of Investigation

Pursuant to Section 221 of the Trade Act of 1974, as amended, an investigation was initiated on April 14, 2009, in response to a petition filed on behalf of workers of Leggett and Platt, Whittier, California.

The petitioner has requested that the petition be withdrawn. Consequently, the investigation has been terminated.

Signed at Washington, DC, this 16th day of April 2009.
Elliott S. Kushner,
Certifying Officer, Division of Trade Adjustment Assistance.

[FR Doc. E9-10865 Filed 5-8-09; 8:45 am]

BILLING CODE 4510-FN-P